DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before September 11, 2023.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on July 28, 2023.
Donald P. Burger,
Chief, General Approvals and Permits Branch.

Special Permits Data
Application No. | Applicant | Regulation(s) affected | Nature of the special permits thereof
21582-N | ABG Bag, Inc | 172.102, 173.36(b)(2), 173.241(e)(1) | To authorize the manufacture, mark, sale, and use of UN 51H large packagings for the purpose of transporting polychlorinated biphenyls by motor vehicle. (mode 1)
21584-N | National Air Cargo Group, Inc | 172.204(c)(3), 172.101(j), 173.27(b)(2), 173.27(b)(3), 175.30(a)(1) | To authorize the transportation in commerce by cargo-only aircraft of Class 1 explosives which are forbidden or exceed the quantities authorized in 172.101 Column 9B. (mode 4)
21586-N | OEC Freight (NY) Inc | 173.241 | To authorize the transportation in commerce of a hazardous substance (ethylene glycol) in alternative packaging. (mode 1)
21588-N | Ford Motor Company | 173.185(h) | To authorize the transportation in commerce of lithium ion batteries exceeding 35 kg aboard cargo-only aircraft. (mode 4)
21589-N | Department of Energy | 172.400(b), 173.302a(a)(1), 173.56(b) | To authorize the transportation in commerce of certain hazardous materials in non-DOT specification pressure vessels that are equipped with a valve with a Class 1 component that has not be classified in accordance with 49 CFR 173.56(b). (mode 1)
21593-N | Livent USA Corp | Parts 172, 173 | To authorize the transportation in commerce of certain hazardous materials between applicant facilities (distances of less than one mile) without being subject to Parts 172 and 173 of the Hazardous Materials Regulations. (mode 1)
21598-N | ME Logistic Services GmbH & Co.KG | 173.185(e) | To authorize the shipment of low production batteries exceeding the quantity limitation. (modes 1, 4)
21601-N | Air Liquide Electronics U.S. LP | 173.3(e)(1) | To authorize the transportation in commerce of specification DOT 3A480 cylinders with valve assemblies that have been repaired using an alternate method. (mode 1)
21602-N | Sharpsville Container Corporation | 178.601(k)(1)(i) | To authorize the manufacture, mark, sale, and use of UN specification steel drums, other than stainless steel drums, that have been tested in the same manner as stainless steel drums. (mode 1)
21605-N | The United States Department of Air Force | 172.101 | To authorize the transportation of batteries containing acid or alkali, battery acid fluid, non-spillable wet batteries, and lithium ion batteries (including those packed with or in equipment) on the same vehicle, without being subject to certain requirements of the Hazardous Materials Regulations. (mode 4)
21608-N | Columbiana Boiler Company, LLC | 178.274(b), 178.275(a), 178.276(b)(1), 180.605(d) | To authorize the transportation in commerce of non-DOT specification portable tanks for the transportation in commerce of certain toxic or corrosive hazardous materials. (modes 1, 4)
21609-N | Polaris Industries Inc | 172.101(j) | To authorize the transportation in commerce of lithium batteries exceeding 35 kg by cargo-only aircraft. (mode 4)
21611-N | Cenergy Solutions Inc | 172.101(a), 173.302 | To authorize the transportation in commerce of methane contained in MC-331 cargo tanks via highway. (mode 1)

[FR Doc. 2023-17099 Filed 8-9-23; 8:45 am]

BILLING CODE 4910-60-P